DEPARTMENT OF HOUSING AND URBAN DEVELOPMENT

[Docket No. FR-5601-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of Army, Office of the Chief of Staff for Installation Management, 600 Army Pentagon, Room 5A128, Washington, DC, 20310, 571-256-8145; Energy: Mr. Mark C. Price, Office of Engineering & Construction Management, OECM MA-50, 4B122, 1000 Independence Ave., NW., Washington, DC, 20585, (202) 586-5422; GSA: Mr. Flavio Peres, General Services Administration, Office of Real Property Utilization and Disposal, 1800 F Street NW., Room 7040 Washington, DC 20405, (202) 501-0084; HHS: Ms. Theresa M. Rita, Chief, Real Property Branch, Department of Health and Human Services, Division of Property Management, Program Support Center, Room 5B-17, Parklawn Building, 5600 Fishers Lane, Rockville, MD 20857, (301) 443-2265; Interior: Mr. Michael Wright, Acquisition & Property Management, Department of the Interior, 1801 Pennsylvania Ave, NW., 4th Floor, Washington, DC 20006: 202-254-5522; Navy: Mr. Steve Matteo, Department of the Navy, Asset Management Division, Naval Facilities Engineering Command, Washington Navy Yard, 1330 Patterson Ave., SW., Suite 1000, Washington, DC 20374; (These are not toll-free numbers).

Dated: December 6, 2012.
Ann Marie Oliva,
Deputy Assistant Secretary for Special Needs (Acting).

TITLE V, FEDERAL SURPLUS PROPERTY PROGRAM FEDERAL REGISTER REPORT FOR 12/14/2012

Suitable/Available Properties

Building

Alaska

12 Buildings

Eielson AFB

Eielson AK 99702

Landholding Agency: Air Force

Property Number: 18201240003

Status: Unutilized

Directions: 1120, 1121, 1161, 1190, 1300, 4305, 6131, 6398, 1302, 1191, 5281, 3108

Comments: Off-site removal only; sf. varies; secured area; contact AF for info. on a specific property & accessibility/removal requirements

12 Buildings

JBER-E

Anchorage AK 99506

Landholding Agency: Air Force

Property Number: 18201240029

Status: Underutilized

Directions: 9372, 9374, 9382, 9378, 57528, 57501, 57438, 57434, 57432, 57409, 57035, 57033

Comments: Off-site removal only; sf. varies; moderate conditions; restricted area; contact AF for more info. on a property & accessibility/removal requirements

9 Buildings

JBER-E

Anchorage AK 99506

Landholding Agency: Air Force

Property Number: 18201240030

Status: Unutilized

Directions: 5374, 59122, 59348, 76520, 16519, 16521, 9570, 7179, 8197

Comments: Off-site removal only; sf. varies; moderate conditions; restricted area; contact AF for more info. on a specific property & accessibility/removal requirements

3 Buildings

Barrow Magnetic Observatory

Barrow AK 99723

Landholding Agency: GSA

Property Number: 54201240011

Status: Excess

GSA Number: 9AK-I-0842

Directions: STORAGE: 309 sf.; SENSOR BLDG.: 225 sf.; ABSOLUTE BLDG.:166 sf

Comments: Off-site removal only; total sf. 700; good to poor conditions; major renovations needed to make bldgs. ideal to occupy; lead/asbestos; contact GSA for more info. on accessibility/removal

California

Building 1028

19338 North St.

Beale CA 95903

Landholding Agency: Air Force

Property Number: 18201240009

Status: Unutilized

Comments: 178 sf.; storage; poor conditions; asbestos & lead; restricted area; contact AF for info. on accessibility requirements

Building 2153

6900 Warren Shingle

Beale AFB CA 95903

Landholding Agency: Air Force

Property Number: 18201240010

Status: Unutilized

Comments: 4,000 sf.; storage; very poor conditions; asbestos & lead possible; restricted area; contact AF for info. on accessibility requirements

Nevada

2 Buildings

Military Circle

Tonopah NV

Landholding Agency: GSA

Property Number: 54201240012

Status: Unutilized

GSA Number: 9-I-NV-514-AK

Directions: bldg. 102: 2,508 sf.; bldg. 103: 2,880 sf.

Comments: Total sf. for both bldgs. 5,388; Admin.; vacant since 1998; sits on 0.747 acres; fair conditions; lead/asbestos present

Oklahoma

Building 3356

Burrill Rd.

Ft. Sill OK 73503

Landholding Agency: Army

Property Number: 21201240050

Status: Unutilized

Comments: Off-site removal only; 10,839 sf.; vehicle maint. shop; 6 mons. vacant; moderate conditions

Pennsylvania

Tract 05-151

1198 Taneytown Rd.

Gettysburg PA 17325

Landholding Agency: Interior

Property Number: 61201240028

Status: Excess

Comments: Off-site removal only; 852 sf.; garage; extensive deterioration; repairs required; 2 months vacant; contamination identified; contact Interior for more info.

Tract 04-145

288 Taneytown Rd.

Gettysburg PA 17325

Landholding Agency: Interior

Property Number: 61201240029

Status: Excess

Comments: Off-site removal only; 240 sf.; storage; extensive deterioration; repairs required; lead base paint; contact Interior for more info.

Virginia

Joint Base Langley Eustis

1134 Wilson Ave.

Newport News VA

Landholding Agency: Air Force

Property Number: 18201240006

Status: Unutilized

Comments: 887 sf.; storage; poor conditions; restricted area; visitor's pass required; contact AF for more info.

Joint Base Langley Eustis

3508 Mulberry Island Rd.

Newport News VA

Landholding Agency: Air Force

Property Number: 18201240007

Status: Unutilized

Comments: 4,026 sf.; storage; poor conditions; restricted area; visitor's pass required; contact AF for more info.

Land

Tennessee

Fort Campbell Army Garrison

U.S. Hwy 79

Woodlawn TN 37191

Landholding Agency: GSA

Property Number: 54201240010

Status: Excess

GSA Number: 4-D-TN-586-2

Comments: 8 parcels; 3.41 to 13.90 acres; agricultural; adjacent to Ft. Campbell-U.S. Army Garrison; parcel 37 identified as wetlands; contact GSA for more details on specific property

Unsuitable Properties

Building

Alabama

6 Buildings

Maxwell AFB

Maxwell AL

Landholding Agency: Air Force

Property Number: 18201240021

Status: Underutilized

Directions: 302, 307, 1411, 695, 699, 322

Comments: Public access denied & no alternative method to gain access w/out compromising nat'l security

Reasons: Secured Area

California

7 Bldgs.

Edwards AFB

Edwards CA 93524

Landholding Agency: Air Force

Property Number: 18201210087

Status: Unutilized

Directions: 9641, 602, 4269, 4951, 7981, 8804

Comments: Nat'l security concerns; no public access and no alternative method to gain access; bldg. 3496 has been demolished

Reasons: Secured Area

26 Buildings

Eureka Hill Rd.

Point Arena Air CA

Landholding Agency: Air Force

Property Number: 18201240011

Status: Underutilized

Directions: 602, 603, 604, 605, 606, 607, 608, 609, 610, 611, 612, 613, 614, 615, 616, 617, 618, 619, 620, 621, 622, 623, 624, 625, 626, 627

Comments: Secured area; public access denied & no alternative method to gain access w/out compromising nat'l security

Reasons: Secured Area

21 Buildings

Eureka Hill Rd.

Point Arena Air CA

Landholding Agency: Air Force

Property Number: 18201240012

Status: Underutilized

Directions: 100, 102, 104, 105, 160, 201, 108, 202, 203, 206, 220, 221, 222, 225, 228, 217, 218, 408, 700, 300, 216

Comments: Secured area; public access denied & no alternative method to gain access w/out compromising nat'l security

Reasons: Secured Area

ACFT DY RSCH

Edwards AFB

Edwards CA

Landholding Agency: Air Force

Property Number: 18201240016

Status: Unutilized

Comments: Secured area; public access denied & no alternative method to gain access w/out compromising nat'l security

Reasons: Secured Area

ACFT RSCH ENG

Edwards AFB

Edwards CA

Landholding Agency: Air Force

Property Number: 18201240017

Status: Unutilized

Comments: Secured area; public access denied & no alternative method to gain access w/out compromising nat'l security

Reasons: Secured Area

Kennel Stray Animal

Edwards AFB

Edwards CA

Landholding Agency: Air Force

Property Number: 18201240018

Status: Excess

Comments: Secured area; public access denied & no alternative method to gain access w/out compromising nat'l security

Reasons: Secured Area

Florida

7 Buildings

Eglin AFB

Eglin FL 32542

Landholding Agency: Air Force

Property Number: 18201240015

Status: Underutilized

Directions: 249, 250, 251, 256, 408, 888, 955

Comments: Restricted area; public access denied & no alternative method to gain access w/out compromising nat'l security

Reasons: Secured Area

4 Buildings

Fighter Wing, FL ANGB

Jacksonville FL 32218

Landholding Agency: Air Force

Property Number: 18201240028

Status: Underutilized

Directions: 1014, 1015, 1016, 1017

Comments: Property located on a gated entry controlled military base; public access denied & no alternative to gain access w/out compromising nat'l security.

Reasons: Secured Area

Facility 3013

107 Ford St.

Eglin AFB FL 32542

Landholding Agency: Air Force

Property Number: 18201240034

Status: Underutilized

Comments: Located in a secured area; on the Duke Field cantonment area; public access denied & no alternative method to gain access w/out compromising nat'l security

Reasons: Secured Area

Buildings 224 & 1900

NAS

Jacksonville FL

Landholding Agency: Navy

Property Number: 77201240006

Status: Unutilized

Comments: Located on secured area; public access denied & no alternative method to gain access w/out compromising nat'l security

Reasons: Secured Area

Hawaii

Bldg. 3378

Joint Base Pearl Harbor

Hickman HI

Landholding Agency: Air Force

Property Number: 18201240027

Status: Unutilized

Comments: Located on secured area; public access denied & no alternative method to gain access w/out compromising nat'l security

Reasons: Secured Area

Idaho

Fac. 291

Bomber Rd.

MHAFB ID 83648

Landholding Agency: Air Force

Property Number: 18201240013

Status: Unutilized

Comments: Secured area; public access denied & no alternative method to gain access w/out compromising nat'l security

Reasons: Secured Area

Building 629

Idaho Nat'l Lab

Idaho Falls ID 83415

Landholding Agency: Energy

Property Number: 41201240001

Status: Unutilized

Comments: Restricted area; public access denied & no alternative method to access w/out compromising nat'l security

Reasons: Secured Area

Louisiana

4 Buildings

Barksdale AFB

Barksdale LA 71110

Landholding Agency: Air Force

Property Number: 18201240004

Status: Unutilized

Directions: 4411, 4414, 4421, 4868

Comments: w/in restricted area; public access denied & no alternative method to gain access w/out compromising nat'l security

Reasons: Secured Area

B-4401

743 Kenny Ave.

Barksdale LA 71110

Landholding Agency: Air Force

Property Number: 18201240005

Status: Excess

Comments: Restricted area; public access denied & no alternative method to gain access w/out compromising nat'l security

Reasons: Secured Area

Building 4161

460 Billy Mitchell Ave.

Barksdale LA 71110

Landholding Agency: Air Force

Property Number: 18201240014

Status: Underutilized

Comments: Secured area; public access denied & no alternative method to gain access w/out compromising nat'l security

Reasons: Secured Area

Bldg. 6115

300 Miller Ave.

Boosier LA 71112

Landholding Agency: Air Force

Property Number: 18201240033

Status: Unutilized

Comments: Extremely high noise hazard area; located w/in military airfield clear zone

Reasons: Within airport runway clear zone

2 Buildings

300 Miller Ave.

Boosier City LA 71112

Landholding Agency: Air Force

Property Number: 18201240035

Status: Unutilized

Directions: 6117, 6119

Comments: Located w/in 1,500 ft. of a Federal facility handling 34,000 gallons of flammable materials; located within aircraft accident potential zone 1 (most dangerous); military airfield clear zone

Reasons: Within 2000 ft. of flammable or explosive material, Within airport runway clear zone

Maryland

Buildings 127 & 128

16701 Elmer School Rd.

Dickerson MD 20837

Landholding Agency: HHS

Property Number: 57201240001

Status: Unutilized

Comments: Secured scientific research campus; public access denied & no alternative method to gain access w/out compromising nat'l security

Reasons: Secured Area

Massachusetts

3 Buildings

175 Falcon Dr.

Westfield MA 01085

Landholding Agency: Air Force

Property Number: 18201240026

Status: Excess

Directions: 16, 35, 28

Comments: Located on secured area; public access denied & no alternative methods to gain access w/out compromising nat'l security

Reasons: Secured Area

New Jersey

2 Buildings

JBMDL

Ft. Dix NJ 08640

Landholding Agency: Air Force

Property Number: 18201240019

Status: Unutilized

Directions: 8679, 2316

Comments: Secured post; public access denied & no alternative method to gain access w/out compromising nat'l security

Reasons: Secured Area

New Mexico

Buildings 782, 793, 1102, 803

Holloman AFB

Holloman NM 88330

Landholding Agency: Air Force

Property Number: 18201240008

Status: Unutilized

Comments: Active military installation; public access denied & no alternative method to gain access w/out compromising nat'l security

Reasons: Secured Area

5 Buildings

Cannon AFB

Cannon NM 88103

Landholding Agency: Air Force

Property Number: 18201240031

Status: Unutilized

Directions: 381, 799, 2112, 2382, 258

Comments: Located on AF controlled installation; restricted to authorized personnel only; public access denied & no alternative method to gain access w/out compromising nat'l security

Reasons: Secured Area

Oklahoma

Facility 47

501 North First St.

Altus OK 73523

Landholding Agency: Air Force

Property Number: 18201240022

Status: Excess

Comments: Public access denied & no alternative method to gain access w/out compromising nat'l security

Reasons: Secured Area

4 Buildings

Altus AFB

Altus OK 73523

Landholding Agency: Air Force

Property Number: 18201240023

Status: Unutilized

Directions: 165, 65, 72, 48

Comments: Secured area; public access denied & no alternative method to gain access w/out compromising nat'l security

Reasons: Secured Area

Oregon

Building 1004

6801 NE Cornfoot Rd.

Portland OR 97218

Landholding Agency: Air Force

Property Number: 18201240025

Status: Unutilized

Comments: Located on secured areea; public access denied & no alternative method to gain access w/out compromising nat'l security

Reasons: Secured Area

Tennessee

Building 712

240 Knapp Blvd.

Nashville TN 37217

Landholding Agency: Air Force

Property Number: 18201240024

Status: Excess

Comments: Located on secured area; public access denied & no alternative method to gain access w/out compromising nat'l security

Reasons: Secured Area

Wyoming

3 Buildings

FE Warren AF

Cheyenne WY 82005

Landholding Agency: Air Force

Property Number: 18201240020

Status: Unutilized

Directions: 1166, 2277, 835

Comments: Restricted area; public access denied & no alternative method to gain access w/out compromising nat'l security

Reasons: Secured Area

[FR Doc. 2012-29925 Filed 12-13-12; 8:45 am]

BILLING CODE 4210-67-P